DEPARTMENT OF TRANSPORTATION

Maritime Administration

[Docket No. DOT 2013 0066]

Request for Comments on a New Information Collection

AGENCY: Maritime Administration, DOT.

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on December 20, 2012. No comments were received.

DATES: Comments must be submitted on or before July 8, 2013.

FOR FURTHER INFORMATION CONTACT: Barbara Jackson, Maritime Administration, 1200 New Jersey Avenue SE., W26-494, Washington, DC 20590. Telephone: 202-366-0615; or email barbara.jackson@dot.gov. Copies of this collection also can be obtained from that office.

SUPPLEMENTARY INFORMATION:

Title: Generic Clearance for the Collection of Qualitative Feedback on Maritime Administration Service Delivery.

OMB Control Number: 2133-NEW.

Type of Request: New Information Collection.

Abstract: This collection of information is necessary to enable the Agency to garner customer and stakeholder feedback in an efficient, timely manner, in accordance with our commitment to improving service delivery. The information collected from our customers and stakeholders will help ensure that users have an effective, efficient, and satisfying experience with the Agency's programs. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management.

Affected Public: Individuals and Households, Businesses and Organizations, State, Local or Tribal Government.

Average Expected Annual Number of activities: 15.

Estimated Number of Respondents: 713.

Annual Estimated Total Annual Burden Hours: 10,700.

Frequency of Response: Once.

ADDRESSES: Send comments regarding these information collections to the Office of Information and Regulatory Affairs, Office of Management and Budget, 725 Seventeenth Street NW., Washington, DC 20503, Attention: MARAD Desk Officer. Alternatively, comments may be sent via email to the Office of Information and Regulatory Affairs (OIRA), Office of Management and Budget, at the following address: oira.submissions@omb.eop.gov. Comments are invited on: (a) Whether the proposed collection of information is necessary for the proper performance of the functions of the Agency, including whether the information will have practical utility; (b) the accuracy of the agency's estimate of the burden of the proposed information collection; (c) ways to enhance the quality, utility and clarity of the information to be collected; and, (d) ways to minimize the burden of the collection of information on respondents, including the use of automated collection techniques or other forms of information technology.

Authority: The Paperwork Reduction Act of 1995; 44 U.S.C. Chapter 35, as amended; and 49 CFR 1.93.

Issued in Washington, DC on May 28, 2013.
Julie P. Agarwal,
Secretary, Maritime Administration.

[FR Doc. 2013-13378 Filed 6-5-13; 8:45 am]

BILLING CODE 4910-81-P